NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13. This is the second notice for public comment; the first was published in the Federal Register at 78 FR 38410, and no comments were received. NSF is forwarding the proposed renewal submission to the Office of Management and Budget (OMB) for clearance simultaneously with the publication of this second notice. The full submission (including comments) may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

DATES: Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title: Experimentation with Factual Knowledge of Science Survey Items.

OMB Approval Number: 3145-NEW.

Overview of this information collection: The National Science Foundation Act of 1950 as amended (42 U.S.C. 1862) authorizes the National Science foundation to “initiate and support basic scientific research and programs to strengthen scientific research potential and science education programs in the mathematical, physical, medical, biological, social, and other sciences.” The America COMPETES Reauthorization Act of 2010 § 505, codified in the National Science Foundation Act of 1950, as amended, established the National Center for Science and Engineering Statistics (NCSES) within the National Science Foundation. NCSES supports surveys that measure the level of basic factual knowledge of science among the American public and prepares information on this topic for dissemination in Science and Engineering Indicators, a biennial publication of the National Science Board (NSB), NSF's governing body. Survey questions cover topics in biology, chemistry, physics, astronomy, and other sciences. NCSES is proposing to conduct a series of survey-based experiments in which question wording and content are systematically varied in order to test the sensitivity of survey measures of factual knowledge of biological evolution and the origins of the universe to variations in question design. These experiments will be conducted via an Internet survey. Data from these experiments may be used in Science and Engineering Indicators to address the effects of question design on survey estimates of public science knowledge and the relationship between understanding and acceptance of scientific conclusions. Results from this research may also be reported in scholarly research publications.

Expected Respondents: Approximately 3,500 U.S. adults (persons aged 18+) will be responding to the survey.

Estimate of Burden: The Foundation estimates that, on average, 15 minutes per respondent will be required to complete the survey. The annual respondent burden for completing the survey is therefore estimated at 875 hours, based on 3,500 respondents.

Dated: September 4, 2013.
Suzanne H. Plimpton,
Reports Clearance Officer, National Science Foundation.

[FR Doc. 2013-21916 Filed 9-9-13; 8:45 am]

BILLING CODE 7555-01-P